DEPARTMENT OF HOMELAND SECURITY

8 CFR Part 214

[DHS No. 2004-0033]

RIN 1615-AA82

Petitions for Aliens To Perform Temporary Nonagricultural Services or Labor (H-2B)

AGENCY: U.S. Citizenship and Immigration Services, Department of Homeland Security.

ACTION: Proposed rule; extension of comment period.

SUMMARY: On January 27, 2005, at 70 FR 3984, U.S. Citizenship and Immigration Services published a proposed rule in the Federal Register, to provide a uniform review process governing petitions for aliens to perform temporary nonagricultural services or labor. To ensure that the public has ample opportunity to fully review and comment on the proposed rule, DHS has extended the comment period for this rule for an additional 30 days. This document informs the public that the comment period has been extended until April 8, 2005.

DATES: Written comments must be submitted on or before April 8, 2005.

ADDRESSES: You may submit comments, identified by RIN 1615-AA82 or DHS Docket DHS-2004-0033 by one of the following methods:

• EPA Federal Partner EDOCKET Web site: http://www.epa.gov/feddocket. Follow the instructions for submitting comments on the Web site.

• Federal eRulemaking Portal: http://www.regulations.gov. Follow the instructions for submitting comments.

• E-mail: rfs.regs@dhs.gov. When submitting comments electronically, please include RIN 1615-AA82 or DHS-2004-0033 in the subject line of the message.

• Mail/Hand-delivered/Courier: Director, Regulatory Management Division, Department of Homeland Security, U.S. Citizenship and Immigration Services, 111 Massachusetts Avenue, NW., 3rd Floor, Washington, DC 20529.

Instructions: All submissions received must include the DHS-2004-0033 or RIN 1615-AA82. All comments received will be posted without change to http://www.epa.gov/feddocket, including any personal information provided. For detailed instructions on submitting comments and additional information on the rulemaking process, see the “Public Participation” heading of the SUPPLEMENTARY INFORMATION section of this document below.

Docket: For access to the docket to read background documents or comments received, go to http://www.epa.gov/feddocket. You may also access the Federal eRulemaking Portal at http://www.regulations.gov. Submitted comments may also be inspected at Regulatory Management Division, Department of Homeland Security, U.S. Citizenship and Immigration Services, 111 Massachusetts Avenue, NW., 2nd Floor, Washington, DC, Monday through Friday, except Federal holidays. Arrangements to inspect submitted comments should be made in advance by calling (202) 272-8377.

FOR FURTHER INFORMATION CONTACT: Kevin J. Cummings, Adjudications Officer, Office of Program and Regulation Development, U.S. Citizenship and Immigration Services, Department of Homeland Security, 111 Massachusetts Avenue, NW., 3rd Floor, Washington, DC 20529, telephone (202) 353-8177.

Richard A. Sloan,
Director, Regulatory Management Division.

[FR Doc. 05-4514 Filed 3-8-05; 8:45 am]

BILLING CODE 4410-10-P